DEPARTMENT OF DEFENSE

Department of the Army

Army Science Board; Notice of Closed Meeting

In accordance with section 10(a)(2) of the Federal Advisory Committee Act (Pub. L. 92-463), announcement is made of the following Committee Meeting:

Name of Committee: Army Science Board (ASB).

Date of Meeting: 25 & 26 March.

Time of Meeting: 0800-1700, 25 March 2002, 0800-1700, 26 March 2002.

Place: Directed Technologies, 3601 Wilson Boulevard, Suite 650, Arlington, VA 22201.

Agenda: The Army Science Board's (ASB) Study “Meeting the Future Army Aviation Needs” will meet for briefings and discussions on the study subject. These meetings will be closed to the public in accordance with Section 552b(c) of title 5, U.S.C., specifically subparagraph (4) thereof, and Title 5, U.S.C., Appendix 2, subsection 10(d). The proprietary matters to be discussed are so inextricably intertwined so as to preclude opening any portion of these meetings. For further information, please contact (Mr. David Wildes @703-601-1536 or Email: Wildes, David Mr. SAALT/S3)

Wayne Joyner,
Program Support Specialist, Army Science Board.

Agenda

The Army Science Board's Study on “Meeting the Future Aviation Needs” 25-26 March 2002

25 March

900-1200 Army Aviation Science and Technology Program. Presented by the Army Aviation and Missile Research, Development and Engineering Center (AMRDEC). (PROPRIETARY)

1300-1400 Defense Advanced Research Projects Agency (DARPA) Unmanned Combat Air Vehicle (UCAV) Program. Presented by DARPA Program Manager (PM). (PROPRIETARY)

1400-1700 DARPA A-160 Hummingbird, Canard Rotary Wing (CRW) and Unmanned Combat Air Vehcile—Navy (UCAV-N) Programs. Presented by DARPA PM. (PROPRIETARY)

26 March

900-1200 Army Aviation Acquisition Program. Presented by the Program Executive Officer Aviation (PEO Avn). (PROPRIETARY)

1300-1700 Army Aviation Study 2002 Review and Planning Session. Study Director. (PROPRIETARY)

[FR Doc. 02-6885 Filed 3-20-02; 8:45 am]

BILLING CODE 3710-08-M